DEPARTMENT OF HOMELAND SECURITY

Coast Guard

[Docket No. USCG-2017-0289]

Cook Inlet Regional Citizens' Advisory Council (CIRCAC) Recertification

AGENCY: Coast Guard, DHS.

ACTION: Notice of recertification.

SUMMARY: This notice informs the public that the Coast Guard has completed its triennial recertification of the Cook Inlet Regional Citizens' Advisory Council (CIRCAC) as an alternative voluntary advisory group for Cook Inlet, Alaska. The certification allows the CIRCAC to monitor the activities of terminal facilities and crude oil tankers under an alternative composition other than prescribed Cook Inlet Program established by statute.

DATES: This recertification is effective for the period from September 1st, 2017, through August 31st, 2018.

FOR FURTHER INFORMATION CONTACT: LT Jonathan Dale, Seventeenth Coast Guard District (dpi), by phone at (907)463-2812, email at jonathan.dale@uscg.mil.

SUPPLEMENTARY INFORMATION:

Background and Purpose

As part of the Oil Pollution Act of 1990, Congress passed the Oil Terminal and Oil Tanker Environmental Oversight and Monitoring Act of 1990 (the Act), 33 U.S.C. 2732, to foster a long-term partnership among industry, government, and local communities in overseeing compliance with environmental concerns in the operation of crude oil terminals and oil tankers.

The President has delegated his authority under 33 U.S.C 2732(o) respecting certification of advisory councils, or groups, subject to the Act to the Secretary of the Department of Homeland Security. Section 8(g) of Executive Order 12777, (56 FR 54757, October 22, 1991), as amended by section 34 of Executive Order 13286 (68 FR 10619, March 5, 2003). The Secretary redelegated that authority to the Commandant of the USCG. Department of Homeland Security Delegation No. 0170.1, paragraph 80 of section II. The Commandant redelegated that authority to the Chief, Office of Marine Safety, Security and Environmental Protection (G-M) on March 19, 1992 (letter #5402).

The Assistant Commandant for Marine Safety and Environmental Protection (G-M), redelegated recertification authority for advisory councils, or groups, to the Commander, Seventeenth Coast Guard District on February 26, 1999 (letter #16450).

On July 7, 1993, the USCG published a policy statement, “Alternative Voluntary Advisory Groups, Prince William Sound and Cook Inlet” (58 FR 36504), to clarify the factors considered in making the determination as to whether advisory councils, or groups, should be certified in accordance with the Act.

On September 16, 2002, the USCG published a policy statement, 67 FR 58440, which changed the recertification procedures such that applicants are required to provide the USCG with comprehensive information every three years (triennially). For each of the two years between the triennial application procedures, applicants submit a letter requesting recertification that includes a description of any substantive changes to the information provided at the previous triennial recertification. Further, public comment is only solicited during the triennial comprehensive review.

Discussion of Comments

On June 29th, 2017, the USCG published a “Notice; request for comments for recertification of Cook Inlet Regional Citizens' Advisory Council” in the Federal Register (82 FR 29572). We received 43 letters commenting on the proposed action. No public meeting was requested. One comment was received questioning CIRCAC's recent changes to its by laws governing the Tourism Group. Through coordination of the involved parties, the Coast Guard is satisfied that the concern is now resolved. All of the other submissions were positive comments, and supported recertification. These letters consistently cited CIRCAC's broad representation of the respective community's interest, appropriate actions to keep the public informed, improvements to both spill response preparation and spill prevention, and oil spill industry monitoring efforts that combat complacency—as intended by the Act.

Recertification

By letter dated August 22, 2017, the Commander, Seventeenth Coast Guard certified that the CIRCAC qualifies as an alternative voluntary advisory group under 33 U.S.C. 2732(o). While the triennial review is valid until August 31, 2020, the annual recertification terminates on August 31, 2018.

April 20, 2018.
Michael F. McAllister,
Rear Admiral, U.S. Coast Guard Commander, Seventeenth Coast Guard District.

[FR Doc. 2018-09664 Filed 5-4-18; 8:45 am]

BILLING CODE 9110-04-P